POSTAL SERVICE

39 CFR Part 111

Proposed Changes To the Domestic Mail Manual To Implement Docket No. R2001-1; Correction

AGENCY: Postal Service.

ACTION: Proposed rule; correction.

SUMMARY: This document corrects a proposed rule published in the Federal Register on January 30, 2002 (67 FR 4562).

DATES: Comments on the corrected proposed rule must be received on or before March 1, 2002.

FOR FURTHER INFORMATION CONTACT: Anne Emmerth, 703-292-3641.

This document corrects a proposed rule published by the Postal Service in the Federal Register on January 30, 2002 (67 FR 4562). The proposed rule contained implementing language for the R2001-1 Omnibus rate case. Corrections are listed below.

1. Page 4563, column 2, first paragraph under item 2: Replace the entire paragraph with the following: “For automation cards and letters, the current rate structure contains a 5-digit, 3-digit, and basic rate. The proposed rate structure would split the basic rate into an automated area distribution center (AADC) rate (for all pieces in an AADC tray) and a mixed AADC rate (for all pieces in a mixed AADC tray). The AADC rate also would apply to pieces in a less-than-full origin 3-digit tray. There are no proposed sortation changes for automation cards and letters. The 5-digit sort level would still be optional; all other sort levels would be required.”

2. Page 4567, column 1, last paragraph (beginning with “Mailers would not be permitted * * *”): The first sentence is correct. The remaining sentences in that paragraph are not correct and should be deleted.

3. Page 4567, column 3, fourth full paragraph: Replace the entire paragraph with the following: “This change would not apply to pieces mailed at the ECR basic letter rate (because the letter and nonletter rates are the same, there would be no discount to subtract).”

4. Page 4578, column 3, section E130.2.2, “Keys and Identification Devices”: Replace the entire paragraph with the following: “Keys and identification devices (identification cards or uncovered identification tags) that weigh 13 ounces or less are mailed at the applicable single-piece letter rate plus the fee in R100.10.0 and, if applicable, the nonmachinable surcharge. The keys and identification devices must bear, contain, or have securely attached the name and complete address of a person, organization, or concern, with instructions to return the piece to that address and a statement guaranteeing payment of postage due on delivery.”

5. Page 4580, column 3, section E217.5.5, “Destination Entry Per Piece Pallet”: Replace the first sentence with the following: “The destination entry per-piece pallet discount applies to each addressed piece of nonletter-size mail (flats and irregular parcels) prepared in packages on any destination entry pallet.”

6. Page 4583, column 3, section E630.4.2, “Letter-Size Pieces”: Replace the last sentence of the paragraph with the following: “Pieces not meeting the standards in this section may be mailed at the saturation nonletter rate or at the basic letter rate.”

7. Page 4587, column 1, section F010.5.3g: For the weighted fee, the nonmachinable surcharge is added to the postage due and then multiplied by the factor. Replace the entire paragraph with the following: “g. A weighted fee is charged when an unforwardable or undeliverable piece is returned to the sender and the piece is endorsed “Address Service Requested” or “Forwarding Service Requested.” The weighted fee is the single-piece First-Class Mail or Priority Mail rate applicable for the weight of the piece, plus the nonmachinable surcharge if it applies (see E130), multiplied by 2.472 and rounded up to the next whole cent (if the computation yields a fraction of a cent). The weighted fee is computed (and rounded if necessary) for each piece individually. Using “Address Service Requested” or “Forwarding Service Requested” obligates the sender to pay the weighted fee on all returned pieces.”

8. Page 4590, under the heading “Enhanced Carrier Route Letters—Nonautomation (Not Barcoded but Machinable)”: For 3-digit carrier routes trays, the content identifier number is 568.

9. Page 4596, column 3, section M730.4.1, “Sacking”: Replace the first sentence of the paragraph with the following: “A sack must be prepared when the quantity of mail for a required presort destination reaches 10 addressed pieces or 20 pounds, whichever occurs first.”

10. Page 4598, column 1, section M740.4.1, “Required Sacking”: Replace the first sentence of the paragraph with the following: “A sack must be prepared when the quantity of mail for a required presort destination reaches 10 addressed pieces or 20 pounds, whichever occurs first.”

11. Page 4612, section R200.1.2, “Outside County Piece Rates”: The 5-digit nonautomation rate is $0.256.

12. Page 4613, section R200.2.2, “Outside County Science-of-Agriculture Piece Rates”: The 5-digit nonautomation rate is $0.256.

Stanley F. Mires,
Chief Counsel, Legislative.

[FR Doc. 02-3135 Filed 2-7-02; 8:45 am]

BILLING CODE 7710-12-P